GENERAL SERVICES ADMINISTRATION

[Notice-CIB-2013-08; Docket No. 2013-0002; Sequence No. 35]

Privacy Act of 1974; Notice of an Updated System of Records

AGENCY: General Services Administration.

ACTION: Notice.

SUMMARY: GSA reviewed its Privacy Act systems to ensure that they are relevant, necessary, accurate, up-to-date, and covered by the appropriate legal or regulatory authority.

DATES: Effective: January 30, 2014.

ADDRESSES: GSA Privacy Act Officer (ISP), U.S. General Services Administration, 1800 F Street NW., Washington, DC 20405.

FOR FURTHER INFORMATION CONTACT: Call or email the GSA Privacy Act Officer: Telephone 202-208-1317; email gsa.privacyact@gsa.gov.

SUPPLEMENTARY INFORMATION: GSA completed an agency-wide review of its Privacy Act systems of records. As a result of the review, GSA is publishing an updated Privacy Act system of records notice. A new routine use was added under the Routine Use Section (Item e) to allow GSA to send reports, data, and information directly to a client agency's contract employees.

Nothing in the revised system notice indicates a change in authorities or practices regarding the collection and maintenance of information, nor does the changes impact individuals' rights to access or amend their records in the system of records.

Dated: December 19, 2013.
James L. Atwater,
Director, Human Resources Information Technology (HRIT) Services Division (IBH).

GSA/PPFM-11

SYSTEM NAME:

Pegasys.

SYSTEM LOCATION:

Pegasys records and files are maintained in the Phoenix Data Center (PDC), with records also stored in the Washington, DC, Central Office; Ft. Worth regional office; and Kansas City regional office.

INDIVIDUALS COVERED BY THE SYSTEM:

Individuals covered by Pegasys include GSA vendors and Federal employees.

RECORDS IN THE SYSTEM:

Pegasys contains records and files pertaining to financial information; therefore, these files and records contain the following privacy data: Social Security Number (SSN); Employee address; Banking information; Credit card number.

AUTHORITY FOR MAINTAINING THE SYSTEM:

The Chief Financial Officers Act of 1990 (Pub. L. 101-576), as amended.

PURPOSE:

Pegasys is the GSA core financial management system of records to make payments and record accounting transactions. This includes funds management (budget execution and purchasing), credit cards, accounts payable, disbursements, standard general ledger, and reporting. It is part of a shared-services financial operation providing a commercial off-the-shelf (COTS) financial system (in a private-vendor hosted environment), financial transaction processing, and financial analysis for its main business lines of Federal supplies and technology, public buildings, and general management and administration offices. GSA also utilizes this shared-service operation to cross-service multiple external client agencies.

ROUTINE USES OF THE SYSTEM RECORDS, INCLUDING CATEGORIES OF USERS AND THEIR PURPOSE FOR USING THE SYSTEM:

System information accessed by Pegasys may be used by designated finance center employees and their supervisors, along with designated analysts and managers. System information also may be used:

a. In any legal proceeding, where pertinent, to which GSA is a party before a court or administrative body.

b. To conduct investigations, by authorized officials, that are investigating or settling a grievance, complaint, or appeal filed by an individual who is the subject of the record.

c. To a Federal agency in connection with the hiring or retention of an employee; the issuance of a security clearance; the reporting of an investigation; the letting of a contract; or the issuance of a grant, license, or other benefit to the extent that the information is relevant and necessary to a decision.

d. To the U.S. Office of Personnel Management (OPM), the Office of Management and Budget (OMB), or the U.S. Government Accountability Office (GAO) when the information is required for program evaluation purposes.

e. To an expert, consultant, or contractor of GSA in the performance of a Federal duty to which the information is relevant; to a board, committee, commission, or small agency receiving administrative services from GSA to which the information relates; or an expert, consultant, or contractor of a board, committee, commission, or small agency receiving administrative services from GSA to which the information relates in the performance of a Federal duty to which the information is relevant.

f. To the National Archives and Records Administration (NARA) for records management purposes.

g. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF SYSTEM RECORDS:

STORAGE:

All records and files in Pegasys are stored electronically in a password-protected database format.

RETRIEVAL:

Information on individuals contained in Pegasys records and files are retrievable by name or vendor number.

SAFEGUARDS:

Pegasys records and files are safeguarded in accordance with the requirements of the Privacy Act. Access is limited to authorized individuals with passwords, and the database is maintained behind a certified firewall. Information on individuals is released only to authorized persons on a need-to-know basis and in accordance with the provisions of the purpose or a routine use. This system undergoes frequent testing and is certified and accredited for operation. Periodic Privacy Impact Assessments are performed as well to ensure the adequacy of security controls to protect personally identifiable information.

RETENTION AND DISPOSAL:

Pegasys records and files are retained and disposed of according to GSA records maintenance and disposition schedules and the requirements of the National Archives and Records Administration (NARA).

SYSTEM MANAGER AND ADDRESS:

Director, Financial Management Systems Operations and Maintenance Division (IBA), U.S. General Services Administration, 1800 F Street NW., Washington, DC 20405.

NOTIFICATION PROCEDURE:

Individuals wishing to inquire if the system contains information about them should contact the Pegasys system manager.

RECORD ACCESS PROCEDURE:

Requests for access may be directed to the Pegasys system manager.

RECORD CONTESTING PROCEDURE:

GSA rules for accessing records, for contesting the contents, and appealing initial decisions are in 41 CFR part 105-64, published in the Federal Register.

RECORD SOURCES:

The sources for information in Pegasys are the individuals about whom the records are maintained, the supervisors of those individuals, and existing agency systems.

[FR Doc. 2013-31308 Filed 12-30-13; 8:45 am]

BILLING CODE 6820-34-P